DEPARTMENT OF COMMERCE

International Trade Administration

[A-570-601]

Tapered Roller Bearings and Parts Thereof, Finished and Unfinished, From the People's Republic of China; Amended Final Results of Antidumping Duty Administrative Review

AGENCY: Import Administration, International Trade Administration, Department of Commerce.

ACTION: Notice of final court decision and amended final results of administrative review.

SUMMARY: The United States Court of International Trade has affirmed the Department of Commerce's final remand results affecting the final weighted-average margins for the 1995/1996 administrative review of the antidumping duty order on tapered roller bearings and parts thereof, finished and unfinished, from the People's Republic of China. There was no appeal to the United States Court of Appeals for the Federal Circuit. As there is now a final and conclusive court decision in this case, we are amending the final results of review and we will instruct the Customs Service to liquidate entries subject to this review. The period of review is June 1, 1995, through May 31, 1996.

EFFECTIVE DATE: July 12, 2002.

FOR FURTHER INFORMATION CONTACT: George Callen or Richard Rimlinger, Import Administration, International Trade Administration, U.S. Department of Commerce, 14th Street and Constitution Avenue, NW., Washington, DC 20230; telephone (202) 482-0180 or (202) 482-4477, respectively.

SUPPLEMENTARY INFORMATION:

Applicable Statute

Unless otherwise indicated, all citations to the statute are references to the provisions effective January 1, 1995, the effective date of the amendments made to the Tariff Act of 1930 (the Act) by the Uruguay Round Agreements Act (URAA).

Background

On November 17, 1997, the Department published the final results of administrative review of the antidumping duty order on tapered roller bearings and parts thereof, finished and unfinished (TRBs), from the People's Republic of China covering the period June 1, 1995, through May 31, 1996. See Tapered Roller Bearings and Parts Thereof, Finished and Unfinished, From the People's Republic of China, Final Results of Antidumping Duty Administrative Review, 62 FR 61276 (November 17, 1997) (Final Results).

The Timken Company contested the Department's decision in the Final Results. In issuing its decision in this case, the United States Court of International Trade (CIT) instructed the Department to make the following changes to its margin calculations for the Final Results: (1) Determine direct labor costs without relying on labor hours and, if necessary, open the record; (2) exclude the “purchases of traded goods” from its calculation of the cost of manufacturing; (3) adjust United States price by recalculating marine insurance pursuant to a value-based methodology; and (4) correct clerical errors in the calculation of the weight of scrap for one of the Chinese producers. See Timken Company v. United States, Court No. 97-12-02156, Slip Op. 01-96 (CIT August 9, 2001).

In its instructions, the CIT did not refer to companies by name. Accordingly, in implementing the court's instructions for determining direct labor costs without relying on labor hours, excluding the “purchases of traded goods” in calculating the cost of manufacturing, and adjusting United States price by recalculating marine insurance pursuant to a value-based methodology, we calculated the changes for all companies for which we had data and for which we had performed calculations to arrive at the weighted-average dumping margins in the Final Results. For one company, Guizhou Machinery Import and Export Corp. (Guizou), this resulted in a change in margin from 21.79 percent to 31.05. This new margin is also the highest overall margin calculated in any segment of this proceeding.

The Department issued final results of redetermination on remand on December 13, 1999. The CIT affirmed the Department's final remand results and dismissed the case. See Timken Company v. United States, Slip Op. 02-30 (CIT March 20, 2002). There was no appeal to the United States Court of Appeals for the Federal Circuit. As there is now a final and conclusive court decision in this action, we are amending our final results of review and we will instruct the Customs Service to liquidate entries subject to this review.

Amendment to Final Results

Pursuant to section 516A(e) of the Act, we are now amending the final results of administrative review of the antidumping duty order on TRBs from the People's Republic of China for the period of review June 1, 1995, through May 31, 1996. In the original Final Results, we established margins for Jilin Machinery Import & Export Corporation (Jilin) and the PRC-wide rate on the basis of total adverse facts available and selected the highest ovrall margin calculated in any segment of the proceeding. As noted above, that rate is now 31.05 percent, the rate calculated for Guizhou in the final results of redetermination on remand. Accordingly, we are amending the rate for Jilin and the PRC-wide rate consistent with those final results of redetermination on remand.

Company | Margin
Peer Bearing Co. and Chin Jun Industrial Ltd. | 3.07
China National Machinery Import and Export Corp. (CMC) | 3.05
Guizhou Machinery Import and Export Corp. | 31.05
Liaoning MEC Group Co., Ltd. | 0.61
Luoyang Bearing Factory | 3.84
Premier Bearing and Equipment, Ltd. | 5.60
Shandong Machinery and Equipment Import and Export Corp. | 19.13
Wanxiang Group Corp. | 0.11
Xiangfan Machinery Foreign Trade Corp. | 0.49
Zhejiang Machinery Import and Export Corp. | 0.17
Jilin | 31.05
PRC Wide Rate | 31.05

Accordingly, the Department will determine and the Customs Service will assess appropriate antidumping duties on entries of the subject merchandise exported by firms covered by this review.

We are issuing and publishing this determination in accordance with section 751(a) of the Act.

Dated: July 3, 2002.
Joseph A. Spetrini,
Acting Assistant Secretary for Import Administration.

[FR Doc. 02-17591 Filed 7-11-02; 8:45 am]

BILLING CODE 3510-DS-P